FEDERAL COMMUNICATIONS COMMISSION

47 CFR Part 73

[DA 05-2206; MB Docket No. 05-249; RM-10778, RM-11259]

Radio Broadcasting Services; Glenmora and Marksville, LA and Orange, TX

AGENCY: Federal Communications Commission.

ACTION: Proposed rule.

SUMMARY: This document requests comments on two mutually exclusive Petitions for Rule Making. The first proposal, filed by Charles Crawford requests the allotment of Channel 292A at Glenmora, Louisiana, as that community's first local aural transmission service. To accommodate this allotment, Crawford requests the reclassification of FM Station KIOC, Channel 291C, Orange, Texas, to specify operation on Channel 291C0 pursuant to the reclassification procedures adopted by the Commission. See 1998 Biennial Regulatory Review—Streamlining of Radio Technical Rules in Parts 73 and 74 of the Commission's Rules, 65 FR 79773 (2000). An Order to Show Cause was issued to Capstar TX Limited Partnership, licensee of FM Station KIOC to which no response was received. The second proposal, filed by Goudeau, Inc. proposes the allotment of Channel 292A at Marksville, Louisiana, as its second local service. A staff engineering analysis has determined that the reclassification of FM Station KIOC to specify operation on Channel 291C0 at Orange, Texas will eliminate any short spacing to the proposed Channel 292A at Glenmora, Louisiana. As a result, Channel 292A can be allotted to Glenmora, in conformity with the Commission's rules, provided there is a site restriction of 12.2 kilometers (7.6 miles) west at reference coordinates 31-00-35 NL and 92-42-30 WL. Alternatively, Channel 292A can be allotted to Marksville, Louisiana, consistent with the minimum distance separation requirements of § 73.207(b) of the Commission's rules, provided there is a site restriction of 9.7 kilometers (6 miles) west at reference coordinates 31-06-34 NL and 92-09-55 WL.

DATES: Comments must be filed on or before September 19, 2005, and reply comments on or before October 4, 2005. Any counterproposal filed in this proceeding need only protect FM Station KIOC, Orange, Texas, as a Class C0 allotment.

ADDRESSES: Federal Communications Commission, 445 Twelfth Street, SW., Washington, DC 20554. In addition to filing comments with the FCC, interested parties should serve the petitioner as follows: Charles Crawford, 4553 Bordeaux Avenue, Dallas, Texas 75205 and George L. Lyon, Jr. Esq., Counsel for Goudeau, Inc., Lukas, Nace, Gutierrez & Sachs, Chartered, 1111 19th Street, NW., Suite 1200, Washington, DC 20036.

FOR FURTHER INFORMATION CONTACT: Rolanda F. Smith, Media Bureau, (202) 418-2180.

SUPPLEMENTARY INFORMATION: This is a synopsis of the Commission's Notice of Proposed Rule Making, MB Docket No. 05-249, adopted July 27, 2005, and released July 29, 2005. The complete text of this decision may also be purchased from the Commission's duplicating contractor, Best Copy and Printing, Inc., 445 12th Street, SW., Room CY-B402, Washington, DC, 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Louisiana is amended by adding Glenmora, Channel 292A or Channel 292A at Marksville.

3. Section 73.202(b), the Table of FM Allotments under Texas is amended by removing Channel 291C and adding Channel 291C0 at Orange.

Federal Communications Commission.
John A. Karousos,
Assistant Chief, Audio Division, Media Bureau.

[FR Doc. 05-16070 Filed 8-16-05; 8:45 am]

BILLING CODE 6712-01-P